DEPARTMENT OF JUSTICE

Notice of Proposed Administrative Settlement Agreement and Order on Consent for Removal Action Pursuant to the Comprehensive Environmental Response, Compensation, and Liability Act

On September 1, 2020, the U.S. Department of Justice approved an Administrative Settlement Agreement and Order on Consent for Removal Action (ASAOC) at the Atlas Mill Site in Ouray County, Colorado, between the U.S. Department of Agriculture Forest Service Region 2 and Good Samaritan Trout Unlimited.

The ASAOC is authorized pursuant to the Comprehensive Environmental Response, Compensation, and Liability Act (CERCLA). Under the terms of the ASAOC, Good Samaritan Trout Unlimited will conduct a non-time critical removal action on 8.8 acres that is contaminated by approximately 26,000 cubic yards of mill tailings and waste rock on the banks of Sneffels Creek in Ouray County, Colorado. Specifically, the Atlas Mine and Mill Site (Site) is located on the Grand Mesa, Uncompahgre and Gunnison National Forest about 8½ miles southwest of Ouray, Colorado, in the Mount Sneffels Mining District. In return for conducting the removal, the United States will provide a covenant not to sue or take administrative action under CERCLA at the Site where cleanup work is occurring.

The publication of this notice opens a period for public comment on the ASAOC. Comments should be addressed to the Assistant Attorney General, Environment and Natural Resources Division, and should refer to In the Matter of Atlas Mill Site, Ouray County, Colorado, D.J. Ref. No. 90-11-3-09760/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the ASAOC may be examined and downloaded at this Justice Department website: https://www.justice.gov/enrd/consent-decrees. We will provide a paper copy of the ASAOC upon written request and payment of reproduction costs. Please mail your request and payment to: Consent Decree Library, U.S. DOJ—ENRD, P.O. Box 7611, Washington, DC 20044-7611.

Please enclose a check or money order for $24.00 (25 cents per page reproduction cost) payable to the United States Treasury.

Jeffrey Sands,
Assistant Section Chief, Environmental Enforcement Section, Environment and Natural Resources Division.

[FR Doc. 2020-20084 Filed 9-10-20; 8:45 am]

BILLING CODE 4410-15-P